CONSUMER PRODUCT SAFETY COMMISSION

Sunshine Act Meeting

AGENCY: Consumer Product Safety Commission.

TIME AND DATE: Wednesday, March 7, 2001, 2:30 p.m.

LOCATION: Room 410, East West Towers, 4330 East West Highway, Bethesda, Maryland.

STATUS: Closed to the Public—Pursuant to 5 U.S.C. 5532(f)(1) and 16 CFR 1013.4(b) (3) (7) (9) and (10) and submitted to the Federal Register pursuant to 5 U.S.C. 552b(e)(3).

MATTER TO BE CONSIDERED:

Compliance Status Report

The staff will brief the Commission on the status of various compliance matters.

For a recorded message containing the latest agenda information, call (301) 504-0709.

CONTACT PERSON FOR ADDITIONAL INFORMATION: Sadye E. Dunn, Office of the Secretary, 4330 East West Highway, Bethesda, MD 20207 (301) 504-0800.

Dated: February 26, 2001.
Sadye E. Dunn,
Secretary.

[FR Doc. 01-5212 Filed 2-28-01; 10:03 am]

BILLING CODE 6355-01-M